DEPARTMENT OF HEALTH AND HUMAN SERVICES

Administration for Children and Families

Proposed Information Collection Activity; Central Authority Payment Service (New Collection)

AGENCY: Office of Child Support Enforcement, Administration for Children and Families, U.S. Department of Health and Human Services.

ACTION: Request for public comments.

SUMMARY: The Office of Child Support Enforcement (OCSE), Administration of Children and Families (ACF), U.S. Department of Health and Human Services (HHS), is requesting the Office of Management and Budget to approve a new information collection, Central Authority Payment Service (CAP). Participating state child support agencies (CSAs) and foreign authorities will use CAP to send or receive child support payments electronically.

DATES: Comments due November 21, 2025.

ADDRESSES: In compliance with the requirements of the Paperwork Reduction Act of 1995, ACF is soliciting public comment on the specific aspects of the information collection described above. You can obtain copies of the proposed collection of information and submit comments by emailing infocollection@acf.hhs.gov. Identify all requests by the title of the information collection.

SUPPLEMENTARY INFORMATION:

Description: OCSE is the federal agency that oversees the national child support enforcement program and is the U.S. Central Authority for international child support. OCSE is mandated to facilitate locating noncustodial parents, establishing paternity, establishing and enforcing support orders, modifying orders, and collecting and disbursing child support payments. It is also required to provide technical assistance and training to state CSAs to process and enforce national and international child support.

To help states eliminate the burden of sending child support payments through the international Automated Clearing House or by wire, OCSE developed CAP, which is a centralized and secure hub for participating states to send international child support payments. After consolidating payments from states, CAP sends one payment to each foreign authority through established federal international electronic payment channels. Payments are converted to applicable currency and distributed by the foreign authority, according to secure case and payment details provided through CAP, to the custodial parent in their country. To participate, states and foreign authorities must enroll in the CAP service to transmit or receive payments.

Respondents: State CSAs and the foreign authorities.

Annual Burden Estimates: Based on the current enrollment status, OCSE anticipates 46 states and 13 foreign authorities to implement CAP or maintain their CAP contacts over the next three years.

Instrument | Number of respondents | Number of responses per respondent | Average burden hours per response | Total burden hours
CAP Service State Contact Form | 46 | 1 | 0.08 | 3.68
CAP Service Foreign Authority Contact Form | 13 | 1 | 0.12 | 1.56
Estimated Total Burden Hours |  |  |  | 5.24

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652(n), 652(a)(7), and 659A(c)(3).

Mary C. Jones,
ACF/OPRE Certifying Officer.

[FR Doc. 2025-18351 Filed 9-19-25; 8:45 am]

BILLING CODE 4184-41-P